DEPARTMENT OF ENERGY

Federal Energy Regulatory Commission

Combined Notice of Filings #1

Take notice that the Commission received the following electric corporate filings:

Docket Numbers: EC21-45-000.

Applicants: PEI Power II LLC, PEI Power Corporation.

Description: Application for Authorization Under Section 203 of the Federal Power Act of PEI Power, LLC, et al.

Filed Date: 1/14/21.

Accession Number: 20210114-5153.

Comments Due: 5 p.m. ET 2/4/21.

Take notice that the Commission received the following electric rate filings:

Docket Numbers: ER10-2460-017; ER10-2461 018; ER10-2463 017; ER10-2466 018; ER10-2895 021; ER10-2917 021; ER10-2918 022; ER10-2920 021; ER10-2921 021; ER10-2922 021; ER10-2966 021; ER10-3167 013; ER11-2201 021; ER11-2383 016; ER11-3941 019; ER11-3942 023; ER11-4029 017; ER12-1311 017; ER12-161 021; ER12-2068 017; ER12-682 018; ER13-1613 014; ER13-17 015; ER13-203 013; ER13-2143 014; ER14-1964 012; ER16-287 007; ER17-482 006; ER19-1074 005; ER19-1075 005; ER19-529 005; ER20-1447 002.

Applicants: Bear Swamp Power Company LLC, BIF II Safe Harbor Holdings, LLC, BIF III Holtwood LLC, Black Bear SO, LLC, Black Bear Development Holdings, LLC, Black Bear Hydro Partners, LLC, BREG Aggregator LLC, Brookfield Energy Marketing Inc., Brookfield Energy Marketing LP, Brookfield Energy Marketing US LLC, Brookfield Power Piney & Deep Creek LLC, Brookfield Renewable Energy Marketing US, LLC, Brookfield Renewable Trading and Marketing, LP, Brookfield White Pine Hydro LLC, Carr Street Generating Station, L.P., Erie Boulevard Hydropower, L.P., Granite Reliable Power, LLC, Great Lakes Hydro America, LLC, Hawks Nest Hydro LLC, Rumford Falls Hydro LLC, Safe Harbor Water Power Corporation, Bishop Hill Energy, LLC, Blue Sky East, LLC, Canandaigua Power Partners, LLC, Canandaigua Power Partners II, LLC, Erie Wind, LLC, Evergreen Wind Power, LLC, Evergreen Wind Power III, LLC, Niagara Wind Power, LLC, Stetson Holdings, LLC, Stetson Wind II, LLC, Vermont Wind, LLC.

Description: Supplemental information to updated Market Power Analysis for Northeast Region of Bear Swamp Power Company LLC.

Filed Date: 12/9/20.

Accession Number: 20201209-5093.

Comments Due: 5 p.m. ET 2/5/21.

Docket Numbers: ER11-2383-017.

Applicants: Safe Harbor Water Power Corporation.

Description: Compliance filing: Informational Filing Pursuant to Schedule 2 of the PJM OATT to be effective N/A.

Filed Date: 1/15/21.

Accession Number: 20210115-5086.

Comments Due: 5 p.m. ET 2/5/21.

Docket Numbers: ER11-4267-012; ER16-2169-004; ER16-2364-004; ER17-692-003.

Applicants: Algonquin Energy Services Inc., Algonquin SKIC 20 Solar, LLC, Algonquin SKIC 10 Solar, LLC, Algonquin Power Sanger LLC.

Description: Triennial Market Power Analysis for Southwest Region of Algonquin Energy Services Inc., et al.

Filed Date: 1/14/21.

Accession Number: 20210114-5150.

Comments Due: 5 p.m. ET 3/15/21.

Docket Numbers: ER16-1530-002.

Applicants: BIF III Holtwood LLC.

Description: Compliance filing: Informational Filing Pursuant to Schedule 2 of the PJM OATT to be effective N/A.

Filed Date: 1/15/21.

Accession Number: 20210115-5083.

Comments Due: 5 p.m. ET 2/5/21.

Docket Numbers: ER17-184-002.

Applicants: SociVolta Inc.

Description: Notice of Change in Status of SociVolta Inc.

Filed Date: 1/14/21.

Accession Number: 20210114-5151.

Comments Due: 5 p.m. ET 2/4/21.

Docket Numbers: ER19-13-006.

Applicants: Pacific Gas and Electric Company.

Description: Compliance filing: TO20 Global Settlement Compliance Filing to be effective 1/27/2020.

Filed Date: 1/15/21.

Accession Number: 20210115-5164.

Comments Due: 5 p.m. ET 2/5/21.

Docket Numbers: ER19-13-007.

Applicants: Pacific Gas and Electric Company.

Description: Compliance filing: Model Correction for TO20 Motion for Interim Rates Compliance Filing to be effective 1/1/2021.

Filed Date: 1/15/21.

Accession Number: 20210115-5167.

Comments Due: 5 p.m. ET 2/5/21.

Docket Numbers: ER21-254-002.

Applicants: Harmony Florida Solar, LLC.

Description: Tariff Amendment: Harmony Florida Solar, LLC Amendment and Supplement to MBR Application to be effective 10/30/2020.

Filed Date: 1/15/21.

Accession Number: 20210115-5190.

Comments Due: 5 p.m. ET 2/5/21.

Docket Numbers: ER21-255-002.

Applicants: Taylor Creek Solar, LLC.

Description: Tariff Amendment: Taylor Creek Solar, LLC Amendment and Supplement to MBR Application to be effective 10/30/2020.

Filed Date: 1/15/21.

Accession Number: 20210115-5192.

Comments Due: 5 p.m. ET 2/5/21.

Docket Numbers: ER21-300-001.

Applicants: Wisconsin Power and Light Company.

Description: Tariff Amendment: WPL Deficiency Response—QF Rider to be effective 12/31/2020.

Filed Date: 1/15/21.

Accession Number: 20210115-5113.

Comments Due: 5 p.m. ET 2/5/21.

Docket Numbers: ER21-383-001.

Applicants: Midcontinent Independent System Operator, Inc., American Transmission Company LLC.

Description: Tariff Amendment: 2021-01-15_SA 3581 ATC-Muscoda Substitute CFA to be effective 3/20/2021.

Filed Date: 1/15/21.

Accession Number: 20210115-5031.

Comments Due: 5 p.m. ET 2/5/21.

Docket Numbers: ER21-511-002.

Applicants: Safe Harbor Water Power Corporation.

Description: Compliance filing: Informational Filing Pursuant to Schedule 2 of the PJM OATT to be effective N/A.

Filed Date: 1/15/21.

Accession Number: 20210115-5091.

Comments Due: 5 p.m. ET 2/5/21.

Docket Numbers: ER21-883-000.

Applicants: PJM Interconnection, L.L.C.

Description: § 205(d) Rate Filing: Original WMPA, Service Agreement No. 5932; Queue No. AE2-028 to be effective 12/15/2020.

Filed Date: 1/14/21.

Accession Number: 20210114-5135.

Comments Due: 5 p.m. ET 2/4/21.

Docket Numbers: ER21-884-000.

Applicants: Ohio Power Company, AEP Ohio Transmission Company, Inc., American Electric Power Service Corporation, PJM Interconnection, L.L.C.

Description: § 205(d) Rate Filing: AEP submits Four FAs re: ILDSA SA No. 1336 to be effective 3/16/2021.

Filed Date: 1/14/21.

Accession Number: 20210114-5138.

Comments Due: 5 p.m. ET 2/4/21.

Docket Numbers: ER21-886-000.

Applicants: NorthWestern Corporation.

Description: § 205(d) Rate Filing: Revision to Attachment M—Large Generator Interconnection Procedures to be effective 1/25/2021.

Filed Date: 1/15/21.

Accession Number: 20210115-5030.

Comments Due: 5 p.m. ET 2/5/21.

Docket Numbers: ER21-887-000.

Applicants: Brookfield Power Piney & Deep Creek LLC.

Description: Compliance filing: eTariff Baseline Submission to be effective 1/16/2021.

Filed Date: 1/15/21.

Accession Number: 20210115-5062.

Comments Due: 5 p.m. ET 2/5/21.

Docket Numbers: ER21-887-001.

Applicants: Brookfield Power Piney & Deep Creek LLC.

Description: Compliance filing: Informational Filing Pursuant to Schedule 2 of the PJM OATT to be effective N/A.

Filed Date: 1/15/21.

Accession Number: 20210115-5084.

Comments Due: 5 p.m. ET 2/5/21.

Docket Numbers: ER21-889-000.

Applicants: Arizona Public Service Company.

Description: § 205(d) Rate Filing: Service Agreement No. 385—SPPA NITS to be effective 1/1/2021.

Filed Date: 1/15/21.

Accession Number: 20210115-5111.

Comments Due: 5 p.m. ET 2/5/21.

Docket Numbers: ER21-890-000.

Applicants: New York Independent System Operator, Inc.

Description: § 205(d) Rate Filing: 205 filing NYISO proposed clarification to tailored availability metric to be effective 3/17/2021.

Filed Date: 1/15/21.

Accession Number: 20210115-5114.

Comments Due: 5 p.m. ET 2/5/21.

Docket Numbers: ER21-892-000.

Applicants: New York Independent System Operator, Inc.

Description: § 205(d) Rate Filing: 205 filing NYISO solar resources rules tariff revisions to be effective 12/31/9998.

Filed Date: 1/15/21.

Accession Number: 20210115-5117.

Comments Due: 5 p.m. ET 2/5/21.

Docket Numbers: ER21-893-000.

Applicants: Arizona Public Service Company.

Description: § 205(d) Rate Filing: Service Agreement Nos. 376, Amendment No. 2 to be effective 12/22/2020.

Filed Date: 1/15/21.

Accession Number: 20210115-5123.

Comments Due: 5 p.m. ET 2/5/21.

Docket Numbers: ER21-894-000.

Applicants: Louisville Gas and Electric Company.

Description: § 205(d) Rate Filing: Transition Mechanism Ageement with KMPA to be effective 3/17/2021.

Filed Date: 1/15/21.

Accession Number: 20210115-5131.

Comments Due: 5 p.m. ET 2/5/21.

Docket Numbers: ER21-895-000.

Applicants: Louisville Gas and Electric Company.

Description: § 205(d) Rate Filing: Transition Mechanism Agreement with KYMEA to be effective 3/17/2021.

Filed Date: 1/15/21.

Accession Number: 20210115-5141.

Comments Due: 5 p.m. ET 2/5/21.

Docket Numbers: ER21-896-000.

Applicants: Louisville Gas and Electric Company.

Description: § 205(d) Rate Filing: Transition Mechanism Agreement with OMU to be effective 3/17/2021.

Filed Date: 1/15/21.

Accession Number: 20210115-5145.

Comments Due: 5 p.m. ET 2/5/21.

Docket Numbers: ER21-897-000.

Applicants: Kentucky Utilities Company.

Description: § 205(d) Rate Filing: KU Concurrence with LGE and KU KMPA Transition Mechanism Agreement to be effective 3/17/2021.

Filed Date: 1/15/21.

Accession Number: 20210115-5147.

Comments Due: 5 p.m. ET 2/5/21.

Docket Numbers: ER21-898-000.

Applicants: Baldwin Wind, LLC.

Description: Tariff Cancellation: Baldwin Wind, LLC MBR Tariff Cancellation to be effective 1/16/2021.

Filed Date: 1/15/21.

Accession Number: 20210115-5150.

Comments Due: 5 p.m. ET 2/5/21.

Docket Numbers: ER21-899-000.

Applicants: Day County Wind, LLC.

Description: Tariff Cancellation: Day County Wind, LLC MBR Tariff Cancellation to be effective 1/16/2021.

Filed Date: 1/15/21.

Accession Number: 20210115-5151.

Comments Due: 5 p.m. ET 2/5/21.

Docket Numbers: ER21-900-000.

Applicants: Kentucky Utilities Company.

Description: § 205(d) Rate Filing: KU Concurrence with LGE and KU KYMEA Transition Mechanism Agreement to be effective 3/17/2021.

Filed Date: 1/15/21.

Accession Number: 20210115-5152.

Comments Due: 5 p.m. ET 2/5/21.

Docket Numbers: ER21-901-000.

Applicants: FPL Energy Cowboy Wind, LLC.

Description: Tariff Cancellation: FPL Energy Cowboy Wind, LLC MBR Tariff Cancellation to be effective 1/16/2021.

Filed Date: 1/15/21.

Accession Number: 20210115-5155.

Comments Due: 5 p.m. ET 2/5/21.

Docket Numbers: ER21-902-000.

Applicants: Gray County Wind Energy, LLC.

Description: Tariff Cancellation: Gray County Wind Energy, LLC MBR Tariff Cancellation to be effective 1/16/2021.

Filed Date: 1/15/21.

Accession Number: 20210115-5156.

Comments Due: 5 p.m. ET 2/5/21.

Docket Numbers: ER21-904-000.

Applicants: Kentucky Utilities Company.

Description: § 205(d) Rate Filing: KU Concurrence with LGE and KU OMU Transition Mechanism Agreement to be effective 3/17/2021.

Filed Date: 1/15/21.

Accession Number: 20210115-5158.

Comments Due: 5 p.m. ET 2/5/21.

Docket Numbers: ER21-905-000.

Applicants: High Majestic Wind Energy Center, LLC.

Description: Tariff Cancellation: High Majestic Wind Energy Center, LLC MBR Tariff Cancellation to be effective 1/16/2021.

Filed Date: 1/15/21.

Accession Number: 20210115-5159.

Comments Due: 5 p.m. ET 2/5/21.

Docket Numbers: ER21-906-000.

Applicants: Minco Wind, LLC.

Description: Tariff Cancellation: Minco Wind, LLC MBR Tariff Cancellation to be effective 1/16/2021.

Filed Date: 1/15/21.

Accession Number: 20210115-5160.

Comments Due: 5 p.m. ET 2/5/21.

Docket Numbers: ER21-907-000.

Applicants: NextEra Energy Transmission New York, Inc., New York Independent System Operator, Inc.

Description: § 205(d) Rate Filing: NEETNY 205 Rate Schedule to be effective 3/17/2021.

Filed Date: 1/15/21.

Accession Number: 20210115-5161.

Comments Due: 5 p.m. ET 2/5/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 15, 2021.
Kimberly D. Bose,
Secretary.

[FR Doc. 2021-01557 Filed 1-25-21; 8:45 am]

BILLING CODE 6717-01-P